DEPARTMENT OF AGRICULTURE

Public Meetings of the Black Hills National Forest Advisory Board

AGENCY: Forest Service, USDA.

ACTION: Notice of meetings.

SUMMARY: The Black Hills National Forest Advisory Board (NFAB) will hold meetings to become informed about Black Hills National Forest issues and to consider those issues so as to make management recommendations to the forest supervisor. The meetings are open, and the public may attend any part of the meetings.

Dates and Agenda Issues:

• Wednesday, August 18, 2004 from 1 to 5 p.m.—Travel Management.

• Wednesday, September 15, 2004 from 1 to 5 p.m.—To be announced through local news media.

• Wednesday, October 13, 2004 from 1 to 5 p.m.—To be announced through local news media.

• Wednesday, November 17, 2004 from 1 to 5 p.m.—To be announced through local news media.

• Wednesday, December 8, 2004 from 1 to 5 p.m.—To be announced through local news media.

• Wednesday, January 5, 2005 from 1 to 5 p.m.—To be announced through local news media.

ADDRESSES: Meeting locations will be announced through local news media.

FOR FURTHER INFORMATION CONTACT: Frank Carroll, Black Hills National Forest, 25041 North Highway 16, Custer, SD, 57730, (605) 673-9200.

Dated: August 2, 2004.
Brad Exton,
Black Hills National Forest Acting Forest Supervisor.

[FR Doc. 04-18103 Filed 8-6-04; 8:45 am]

BILLING CODE 3410-11-M